DEPARTMENT OF ENERGY

Federal Energy Regulatory Commission

[Project No. 2246-058]

Yuba County Water Agency; Notice of Proposed Restricted Service List for a Programmatic Agreement for Managing Properties Included in or Eligible for Inclusion in the National Register of Historic Places

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR section 385.2010.

The Commission staff is consulting with the California State Historic Preservation Officer (hereinafter, California SHPO), and the Advisory Council on Historic Preservation (hereinafter, Council) pursuant to the Council's regulations, 36 CFR part 800, implementing section 106 of the National Historic Preservation Act, as amended, (16 U.S.C. section 470 f), to prepare and execute a programmatic agreement for managing properties included in, or eligible for inclusion in, the National Register of Historic Places at the Yuba River Project No. 2246.

The programmatic agreement, when executed by the Commission and the California SHPO, would satisfy the Commission's section 106 responsibilities for all individual undertakings carried out in accordance with the license until the license expires or is terminated (36 CFR 800.13[e]). The Commission's responsibilities pursuant to section 106 for the Yuba River Project would be fulfilled through the programmatic agreement, which the Commission proposes to draft in consultation with certain parties listed below. The executed programmatic agreement would be incorporated into any Order issuing a license.

Yuba County Water Agency, as licensee for the Yuba River Project No. 2246, and the United Indian Auburn Indian Community, Nevada City Rancheria, Strawberry Valley Rancheria, Enterprise Rancheria, Mooretown Rancheria, Greenville Rancheria, Washoe Tribe, Mechoopda Maidu Indians, Tsi-Akim Maidu Tribe, Tahoe and Plumas National Forest have expressed an interest in this preceding and are invited to participate in consultations to develop the programmatic agreement.

For purposes of commenting on the programmatic agreement, we propose to restrict the service list for the aforementioned project as follows:

John Eddins or Representative, Office of Planning and Review, Advisory Council on Historic Preservation, 1100 Pennsylvania Ave. NW., Suite 809, Washington, DC 20004

Carrie Smith or Representative, Tahoe National Forest, 9646 Donner Pass Road, Truckee, CA 96161

Cathy Bishop or Representative, Strawberry Valley Rancheria, 1540 Strader Avenue, Sacramento, CA 95815

Virginia Covert or Representative, Nevada City Rancheria, P.O. Box 825, Nevada City, CA 95959

Guy Taylor or Representative, Mooretown Rancheria of Maidu Indians, 31 Alverde Drive, Oroville, CA 95966

Ren Reynolds or Representative, Butte Tribal Council, Enterprise Rancheria, 1693 Mt. Ida Road, Oroville, CA 95966

Crista Steward or Representative, Greenville Rancheria, P.O. Box 279, Greenville, CA 95947

Marcos Guerrero or Representative, United Auburn Indian Community of the Auburn Rancheria, 10720 Indian Hill Road, Auburn, CA 95603

Darrel Cruz or Representative, Washoe Tribe of Nevada and California, 919 US Highway 395 South, Gardnerville, NV 89410

Dan Elliot or Representative, Plumas National Forest, 159 Lawrence Street/P.O. Box 11500, Quincy, CA 95971

Grayson Coney or Representative, Tsi-Akim Maidu Tribe, P.O. Box 1316, Colfax, CA 95713

Mike DeSpain or Representative, Mechoopda Maidu Indians, 125 Mission Ranch Blvd., Chico, CA 95926

Amanda Blosser or Representative, Office of Historic Preservation, Department of Parks and Recreation, 1725 23rd Street, Suite 100, Sacramento, CA 95816-7100

Geoff Rabone or Representative, Yuba County Water Agency, 1220 F Street, Marysville, CA 95901

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-2246-005) on the first page of the filing.

If no such motions are filed, the restricted service list will be effective at the end of the 15 day period. Otherwise, a further notice will be issued ruling on any motion or motions filed within the 15 day period.

Dated: January 12, 2012.
Kimberly D. Bose,
Secretary.

[FR Doc. 2012-1077 Filed 1-19-12; 8:45 am]

BILLING CODE 6717-01-P